FEDERAL COMMUNICATIONS COMMISSION

Notice of Public Information Collection(s) Being Submitted for Review to the Office of Management and Budget

August 23, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 6, 2006. If you anticipate that you will be submitting PRA comments, but find it difficult to do so within the period of time allowed by this notice, you should advise the contact listed below as soon as possible.

ADDRESSES: Direct all Paperwork Reduction Act (PRA) comments to Judith B. Herman, Federal Communications Commission, Room 1-B441, 445 12th Street, SW., Washington, DC 20554 or via the Internet to PRA@fcc.gov. If you would like to obtain or view a copy of this information collection, you may do so by visiting the FCC PRA Web page at: http://www.fcc.gov/omd/pra.

FOR FURTHER INFORMATION CONTACT: For additional information or copies of the information collection(s), send an e-mail to PRA@fcc.gov or contact Judith B. Herman at 202-418-0214. If you would like to obtain or view a copy of this information collection, you may do so by visiting the FCC PRA Web page at: http://www.fcc.gov/omd/pra.

SUPPLEMENTARY INFORMATION: OMB Control No.: 3060-0307.

Title: Amendment of Pat 90 of the Commission's Rules to Facilitate Development of SMR Systems in the 800 MHz Frequency Band.

Form Nos.: N/A.

Type of Review: Revision of a currently approved collection.

Respondents: Business or other for-profit, not-for-profit institutions, and state, local or tribal government.

Number of Respondents: 1,042.

Estimated Time Per Response: 2-4.5 hours.

Frequency of Response: On occasion reporting requirement and third party disclosure requirement.

Total Annual Burden: 524 hours.

Total Annual Cost: $304,313.

Privacy Act Impact Assessment: N/A.

Needs and Uses: This collection will be submitted as a revision after this 60 day comment period to Office of Management and Budget (OMB) in order to obtain the full three year clearance.

There are eight reporting requirements in this information collection. They are: (1) Applicants in the specific categories of 800 Specialized Mobile Radio (SMR) spectrum may request an extended period of time within which to construct their radio systems provided that they demonstrate such additional time is needed and provide a timetable for completing such construction; (2) licensees authorized to use a specific block of 800 MHz SMR frequencies within one of 175 Economic Areas (EAs), must notify the Commission of the technical parameters for any base stations operating on channels within their respective spectrum blocks that have been added, removed, relocated, or otherwise modified in accordance with the Commission's rules; (3) licensees operating on 800 MHz SMR frequencies who do not hold EA licenses must notify the Commission of the technical parameters for any base stations which they operate that have been added, removed, relocated, or otherwise modified in accordance with the Commission's rules; (4) incumbent licensees operating at multiple sites may exchange their multiple site licenses for a single license after the completion of the auction for the spectrum blocks within which their frequencies are included provided they submit a showing that their authorized facilities have been constructed and placed in operation and the contours associated with these facilities are contiguous and overlapping; (5) EA licensees must submit proof of their notification to incumbents operating on frequencies included within the EA licensees' spectrum blocks of their intention to relocate such incumbents; (6) auction winners claiming status as a small business must submit detailed ownership and gross revenue information necessary to determine they qualify as a small business pursuant to the Commission's rules; (7) auction winners must disclose the terms of any joint bidding agreements, if any, with other auction participants, and (8) EA licensees who transfer or assign their license within three years are required to file, together with a transfer application, a statement indicating that the license was obtained through competitive bidding, as well as the associated contracts for sale, option agreements, management agreements and all other documents disclosing the total consideration received in return for the transfer or assignment of the license.

The Commission has revised this collection because on July 22, 2005, the Commission adopted a Report and Order and Further Notice of Proposed Rulemaking (20 FCC Rcd 16293) to streamline and harmonize licensing provisions in the wireless radio services pursuant to biennial regulatory review responsibilities. The Commission modified section 90.693 to eliminate the necessity of incumbent 800 SMR licensees filing notifications of minor modifications in certain circumstances. Specifically, notification of minor modifications is no longer required where a license locates its facilities closer than the minimum required distance separation but nonetheless falls within the parameters of the Short Space Separation Table under 47 CFR 90.621.

The information will be used by the Commission for the following purposes: (a) To update the Commission's licensing database and thereby facilitate the successful coexistence of EA licensees and incumbents in the 800 MHz SMR band; and (b) to determine whether an applicant is eligible for special provisions for small businesses provided for applicants in the 800 MHz service.

Federal Communications Commission.
Marlene H. Dortch,
Secretary.

[FR Doc. E6-14790 Filed 9-6-06; 8:45 am]

BILLING CODE 6712-01-P